DEPARTMENT OF HOMELAND SECURITY

Federal Emergency Management Agency

[Docket ID FEMA-2013-0044]

Recovery Policy RP9525.2, Donated Resources

AGENCY: Federal Emergency Management Agency, DHS.

ACTION: Notice of availability.

SUMMARY: This document provides notice of the availability of the final Recovery Policy RP9525.23, Donated Resources. The Federal Emergency Management Agency (FEMA) published a notice of availability and request for comment for the proposed policy on November 1, 2013 at 78 FR 65688.

DATES: This policy is effective February 26, 2014.

ADDRESSES: This final policy is available online at http://www.regulations.gov and on FEMA's Web site at http://www.fema.gov. The proposed and final policy, all related Federal Register Notices, and all public comments received during the comment period are available at http://www.regulations.gov under docket ID FEMA-2013-0044. You may also view a hard copy of the final policy at the Office of Chief Counsel, Federal Emergency Management Agency, Room 8NE, 500 C Street SW., Washington, DC 20472.

FOR FURTHER INFORMATION CONTACT: William Roche, Federal Emergency Management Agency, 500 C Street SW., Washington, DC 20472, 202-646-3834.

SUPPLEMENTARY INFORMATION: The final policy establishes the criteria by which applicants will be credited for volunteer labor, donated equipment, and donated materials used in the performance of eligible emergency work (Categories A and B). The final policy incorporates a change that allows the value of mass care and sheltering activities provided by a voluntary agency to be applied to the non-Federal cost share as a donated resource even when those activities are part of the organization's mission.

FEMA received seventeen comments on the proposed policy that did not lead to any changes to the final policy.

This final policy does not have the force or effect of law.

Authority: 42 U.S.C. 5121-5207.

David J. Kaufman,
Associate Administrator, Office of Policy and Program Analysis, Federal Emergency Management Agency.

[FR Doc. 2014-07413 Filed 4-1-14; 8:45 am]

BILLING CODE 9111-23-P